DEPARTMENT OF ENERGY

Federal Energy Regulatory Commission

[Docket Nos. CP14-554-002; CP15-016-003; CP15-017-002]

Florida Southeast Connection, LLC; Transcontinental Gas Pipe Line Company, LLC; Sabal Trail Transmission, LLC; Notice of Availability of the Draft Supplemental Environmental Impact Statement for the Southeast Market Pipelines Project

The staff of the Federal Energy Regulatory Commission (FERC or Commission) has prepared a draft supplemental environmental impact statement (SEIS) for the Southeast Market Pipelines Project (SMP Project). The SMP Project is composed of three separate, but related, interstate natural gas transmission pipeline projects. These projects are: Transcontinental Gas Pipe Line Company, LLC's Hillabee Expansion Project in Docket No. CP15-16-000; Sabal Trail Transmission, LLC's Sabal Trail Project in Docket No. CP15-17-000; and Florida Southeast Connection, LLC's Florida Southeast Connection Project in Docket No. CP14-554-000. Together, these projects involve the construction and operation of approximately 685 miles of pipeline and associated facilities.

The draft SEIS has been prepared to address the August 22, 2017 Opinion issued by the United States Court of Appeals for the District of Columbia regarding the Commission's environmental review of the SMP Project. The draft SEIS incorporates by reference and expands upon the analysis contained within the December 2015 final environmental impact statement (FEIS) for the SMP Project. The draft SEIS estimates the greenhouse gas emissions generated by the SMP Project's customers' downstream facilities, describes the methodology used to determine these estimates, discusses context for understanding the magnitude of these emissions, and addresses the value of using the social cost of carbon tool.

As described in the executive summary of the FEIS, and based on the environmental analysis section of the FEIS and this draft SEIS, we conclude that constructing and operating the SMP Project would result in temporary and permanent impacts on the environment. We also conclude that with the applicants' implementation of their respective impact avoidance, minimization, and mitigation measures, as well as their adherence to the measures we have required to further avoid, minimize, and mitigate these impacts, operating the SMP Project would not result in a significant impact on the environment.

Commission staff has mailed copies of the draft SEIS to federal, state, and local government representatives and agencies; elected officials; environmental and public interest groups; Native American tribes; potentially affected landowners, other interested individuals and groups; and newspapers and libraries in the project area. Additionally, the draft SEIS is available for public viewing on the FERC's Web site (www.ferc.gov) using the eLibrary link. A limited number of copies of the draft EIS are available for distribution and public inspection at: Federal Energy Regulatory Commission, Public Reference Room, 888 First Street NE., Room 2A, Washington, DC 20426, (202) 502-8371.

Any person wishing to comment on the draft SEIS may do so. The Commission will only consider comments on the draft SEIS, and not on the FEIS or the Commission's orders in this proceeding, on which the public has already been provided the opportunity to comment. Comments on the draft SEIS must be filed on or before November 20, 2017. While the Commission makes every effort to consider all comments, it cannot guarantee that late comments will be considered.

For your convenience, there are three methods you can use to submit your comments to the Commission. In all instances, please reference docket numbers CP14554-002; CP15-16-003; and CP15-17-002 with your submission. The Commission encourages electronic filing of comments and has expert staff available to assist you at (202) 502-8258 or FercOnlineSupport@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on eRegister. If you are filing a comment on a particular project, please select Comment on a Filing as the filing type; or

(3) You can file a paper copy of your comments by mailing them to the following address. Be sure to reference the project docket numbers (CP14554-002, CP15-16-003, and CP15-17-002) with your submission: Kimberly D. Bose, Secretary, Federal Energy Regulatory Commission, 888 First Street NE., Room 1A, Washington, DC 20426.

Questions?

Additional information about the SMP Project is available from the Commission's Office of External Affairs, at (866) 208-FERC, or on the FERC Web site (www.ferc.gov) using the eLibrary link. Click on the eLibrary link, click on General Search, and enter the docket number excluding the last three digits in the Docket Number field (i.e., CP14554, CP15-16, and CP15-17). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 27, 2017.
Kimberly D. Bose,
Secretary.

[FR Doc. 2017-21269 Filed 10-3-17; 8:45 am]

BILLING CODE 6717-01-P